DEPARTMENT OF THE INTERIOR

Bureau of Land Management

[AK-910-1310PP-ARAC]

Notice of Public Meeting, Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council will meet as indicated below.

DATES: The meeting will be held December 13-14, 2006, at the University of Alaska—Anchorage campus, Library Building, Third Floor, Anchorage, Alaska. The December 13 meeting starts at 1 p.m. in Room 302A. The December 14 meeting begins at 8 a.m. in Room 307 with a public comment period starting at 1 p.m.

FOR FURTHER INFORMATION CONTACT: Danielle Allen, Alaska State Office, 222 W. 7th Avenue #13, Anchorage, AK 99513. Telephone (907) 271-3335 or e-mail Danielle_Allen@ak.blm.gov.

SUPPLEMENTARY INFORMATION: The 15-member Council advises the Secretary of the Interior, through the Bureau of Land Management, on a variety of planning and management issues associated with public land management in Alaska. At this meeting, topics planned for discussion include:

• National Petroleum Reserve—Alaska

• Community Based Planning

• Lands Transfer Program

• Other topics the Council may raise

All meetings are open to the public. The public may present written comments to the Council. Each formal Council meeting will also have time allotted for hearing public comments. Depending on the number of people wishing to comment and time available, the time for individual oral comments may be limited. Individuals who plan to attend and need special assistance, such as sign language interpretation, transportation, or other reasonable accommodations, should contact BLM.

Dated: November 1, 2006.
Julia Dougan,
Acting State Director.

[FR Doc. E6-18836 Filed 11-7-06; 8:45 am]

BILLING CODE 4310-JA-P